DEPARTMENT OF HOMELAND SECURITY

Coast Guard

[CGD05-05-029]

Implementation of Sector Delaware Bay

AGENCY: Coast Guard, DHS.

ACTION: Notice of organizational change.

SUMMARY: The Coast Guard announces the stand-up of Sector Delaware Bay and its subordinate entity, Sector Field Office (SFO) Atlantic City. Sector Delaware Bay is subordinate to the Fifth Coast Guard District Commander. Air Station Atlantic City remains an independent unit that is subordinate to the Fifth Coast Guard District Commander.

The Sector Delaware Bay Commander has the authority, responsibility and missions of the prior Group Philadelphia Commander, Captain of the Port (COTP), Officer in Charge, Marine Inspection (OCMI), Federal On Scene Coordinator (FOSC), Federal Maritime Security Coordinator (FMSC), and Search and Rescue Mission Coordinator (SMC). The SFO Atlantic City Commander has the authority, responsibility, and missions of the prior Group Atlantic City Commander and may be delegated Search and Rescue Mission Coordinator authority. The Coast Guard has established a continuity of operations whereby all previous practices and procedures will remain in effect until superseded by an authorized Coast Guard official and/or document.

DATES: This change was effective on March 31, 2005.

ADDRESSES: Documents indicated in this preamble as being available in the docket are part of docket CGD05-05-029 and are available for inspection or copying at Fifth District Marine Safety, 431 Crawford Street, Portsmouth, VA 23704 between 7:30 a.m. and 4:30 p.m., Monday through Friday, except Federal Holidays.

FOR FURTHER INFORMATION CONTACT: Commander Brian Hall, Fifth District Marine Safety Division at 757-398-6691.

SUPPLEMENTARY INFORMATION:

Discussion of Notice

Sector Delaware Bay is located at 1 Washington Ave., Philadelphia, PA 19147-4395. A command center supporting Sector Delaware Bay is located at Philadelphia, PA. A second command center operated by SFO Atlantic City will support the Sector Field Office and the SFO's subordinate units. Sector Delaware Bay is composed of a Response Department, Prevention Department, and Logistics Department. All existing missions and functions performed by Marine Safety Office (MSO)/Group Philadelphia and Group Atlantic City have been realigned under this new organizational structure as of March 31, 2005. MSO/Group Philadelphia and Group Atlantic City no longer exist as organizational entities. Sector Delaware Bay is responsible for all Coast Guard missions in the Philadelphia Marine Inspection Zone and Captain of the Port Zone, which are now referred to as the Delaware Bay Marine Inspection Zone and Delaware Bay Captain of the Port Zone. Group Eastern Shore retains responsibility for Search and Rescue (SAR) mission coordination for coastal Delaware and for inland portions of lower Delaware, South of Cape Henlopen at latitude 38 degrees 45 minutes N. latitude. The boundary of the Sector Delaware Bay Marine Inspection and Captain of the Port zone is as follows: “Beginning on the New Jersey coast at 40 degrees 18 minutes N. latitude and 73 degrees 58.8 minutes W. Longitude, thence proceeds westward to 40 degrees 18 minutes N. latitude, 74 degrees 30.5 minutes W. longitude, thence north-northwesterly to the junction of the New York, New Jersey, and Pennsylvania boundaries at Tristate; thence northwesterly along the east bank of the Delaware River to 42 degrees 00 minutes N. latitude; thence west along the New York-Pennsylvania boundary to 78 degrees 55 minutes W. longitude; thence south to 41 degrees 00 minutes N. latitude; thence west to 79 degrees 00 minutes W. longitude; thence south to the Pennsylvania-Maryland boundary; thence east to the intersection of the Maryland-Delaware boundary; thence south and east along the Maryland-Delaware boundary to the sea, including Fenwick Island Light. The revised offshore boundary starts at Fenwick Island Light and proceeds east to a point at 38 degrees 26.41 minutes N. latitude and 74 degrees 26.76 minutes W. longitude; thence south eastwardly to 37 degrees 19.23 minutes N. latitude and 72 degrees 13.22 minutes W. longitude; thence east to 37 degrees 19.23 minutes and 67 degrees 54.11 minutes W. longitude; then to a point on the New Jersey coast at 40 degrees 18 minutes N. latitude and 73 degrees 58.8 minutes W. longitude.” A chart that depicts this area can be found on the Fifth District Web page at http://www.uscg.mil/d5/D5_Units/Sectors.htm.

The SFO Atlantic City SMC AOR includes the waters of the Delaware Bay and those coastal offshore areas of the Sector Delaware Bay zone, except for those waters that have been assigned to Coast Guard Group Eastern Shore. The SFO Atlantic City SMC zone is as follows: “The Sector Field Office Atlantic City Search and Rescue Mission Coordinator AOR starts on the New Jersey coast at 40 degrees 18 minutes N. latitude and 73 degrees 58.8 minutes W. longitude, thence proceeds westward to 40 degrees 18 minutes N. latitude and 74 degrees 30.5 minutes W. longitude, thence south to 39 degrees 57 minutes N. latitude and 74 degrees 30.5 minutes W. longitude, thence proceeds southwestward to 39 degrees 36 minutes N. latitude and 74 degrees 42 minutes W. longitude, thence proceeds westward to 39 degrees 30 minutes N. latitude and 75 degrees 19 minutes W. longitude, thence proceeds south to 39 degrees 19 minutes N. latitude and 75 degrees 19 minutes W. longitude, thence proceeds west to a point at 39 degrees 18.9 minutes N. latitude and 75 degrees 46.3 minutes W. longitude on the Maryland-Delaware boundary, thence proceeds south along the Maryland-Delaware boundary to a point 38 degrees 45 minutes N. latitude and 75 degrees 43.5 minutes W. longitude, thence proceeds east continuing along the Maryland-Delaware boundary to the sea, including Fenwick Island Light, thence proceeds offshore from Fenwick Island Light southeastwardly to 37 degrees 19.23 minutes N. latitude and 72 degrees 13.22 minutes W. longitude, thence proceeds east to 37 degrees 19.23 minutes N. latitude and 67 degrees 54.11 minutes W. longitude, thence proceeds northwestwardly to the start at 40 degrees 18 minutes N. latitude and 73 degrees 58.8 minutes W. longitude.”

The Sector Delaware Bay Commander is vested with all the rights, responsibilities, duties, and authority of a Group/Activities Commander and Commanding Officer, Marine Safety Office, as provided for in Coast Guard regulations, and is the successor in command to the Commanding Officer, MSO/Group Philadelphia and Commander, Group Atlantic City. The Sector Delaware Bay Commander is designated: (a) Captain of the Port (COTP) for the Delaware Bay COTP zone; (b) Federal Maritime Security Coordinator (FMSC); (c) Federal On Scene Coordinator (FOSC) for the Delaware Bay COTP zone, consistent with the National Contingency Plan; (d) Officer In Charge of Marine Inspection (OCMI) for the Delaware Bay Marine Inspection Zone and, (e) Search and Rescue Mission Coordinator (SMC). The Deputy Sector Commander is designated alternate COTP, FMSC, FOSC, SMC and Acting OCMI. The Deputy Sector Commander also assumes active search suspension (ACTSUS) authority in the absence of the Sector Commander. The Commander of SFO Atlantic City is subordinate to the Sector Commander and is vested with all the rights, responsibilities, duties, and authority of a Group Commander, which may include Search and Rescue Mission Coordinator (SMC) when delegated by the Sector Commander. In the absence of the SFO Commander, SMC authority may remain with the Acting Commander. However, active search suspension (ACTSUS) authority will revert to the Commander, Sector Delaware Bay. A continuity of operations order has been issued ensuring that all previous MSO/Group Philadelphia and Group Atlantic City practices and procedures will remain in effect until superseded by Commander, Sector Delaware Bay. This continuity of operations order addresses existing COTP regulations, orders, directives and policies.

The following information is a list of updated command titles, addresses and points of contact to facilitate requests from the public and assist with entry into security or safety zones.

Sector Delaware Bay

Commander: CAPT J. Sarubbi.

Deputy Sector Commander: CDR S. Wood.

Address: Commander, U.S. Coast Guard Sector Delaware Bay, 1 Washington Ave., Philadelphia, PA 19147-4395.

Contact: General Number: (215) 271-4940

Chief, Prevention Department: (215) 271-4859;

Chief, Response Department: (215) 271-4864;

Chief, Logistics Department: (215) 271-4912.

Sector Field Office Atlantic City

Commander: CDR T. Harrop.

Address: U.S. Coast Guard Sector Field Office Atlantic City, International Airport, Atlantic City, NJ 08401-0001.

Contact: General Number: (609) 677-2226.

Emergency search and rescue: (609) 677-2222.

Air Station Atlantic City

Commanding Officer: CAPT J. Hubbard.

Address: Commanding Officer, U.S. Coast Guard Air Station Atlantic City, International Airport, Atlantic City, NJ 08401-0001.

Contact: General Number: (609) 677-2225.

Dated: June 1, 2005.
Sally Brice-O'Hara,
Rear Admiral, U. S. Coast Guard, Commander, Fifth Coast Guard District.

[FR Doc. 05-11488 Filed 6-9-05; 8:45 am]

BILLING CODE 4910-15-P